DEPARTMENT OF THE INTERIOR

Bureau of Land Management

[LLNMP0000 L91450000.PP0000 16XL5573PF]

Pecos District Resource Advisory Council Meeting, New Mexico

AGENCY: Bureau of Land Management, Interior.

ACTION: Notice of public meeting.

SUMMARY: In accordance with the Federal Land Policy and Management Act and the Federal Advisory Committee Act, Bureau of Land Management's (BLM) Pecos District Resource Advisory Council (RAC) will meet as indicated below.

DATES: The RAC will meet on April 21, 2016, at the Eddy Building, 111 Blackjack Pershing, Fort Stanton, New Mexico, from 10:00 a.m.-4:00 p.m. The public may send written comments to the RAC at the BLM Pecos District, 2909 West 2nd Street, Roswell, New Mexico 88201.

FOR FURTHER INFORMATION CONTACT: Howard Parman, Pecos District Office, Bureau of Land Management, 2909 West 2nd Street, Roswell, New Mexico 88201, 575-627-0212. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Pecos District RAC advises the Secretary of the Interior, through the BLM, on a variety of planning and management issues associated with public land management in the BLM's Pecos District. Planned agenda items include: A presentation regarding recreation use fees at Lincoln National Forest facilities, a possible treatment for bats with white nose syndrome, and presentations about the science studies in Fort Stanton Cave.

All RAC meetings are open to the public. There will be a half-hour public comment period at 10:30 a.m. for any interested members of the public who wish to address the RAC. Depending on the number of persons wishing to speak and time available, the time for individual comments may be limited.

Byron Loosle,
Acting Deputy State Director.

[FR Doc. 2016-05894 Filed 3-15-16; 8:45 am]

BILLING CODE 4310-FB-P